FEDERAL ACCOUNTING STANDARDS ADVISORY BOARD

Notice of Issuance of Statement of Federal Financial Accounting Standard 37, Social Insurance: Additional Requirements for Management's Discussion and Analysis and Basic Financial Statements

AGENCY: Federal Accounting Standards Advisory Board.

ACTION: Notice.

Board Action: Pursuant to 31 U.S.C. 3511(d), the Federal Advisory Committee Act (Pub. L. 92-463), as amended, and the FASAB Rules of Procedure, as amended in April, 2004, notice is hereby given that the Federal Accounting Standards Advisory Board (FASAB) has issued Statement of Federal Financial Accounting Standard 37, Social Insurance: Additional Requirements for Management's Discussion and Analysis and Basic Financial Statements.

The standard is available on the FASAB home page http://www.fasab.gov/standards.html. Copies can be obtained by contacting FASAB at (202) 512-7350.

FOR FURTHER INFORMATION CONTACT: Wendy Payne, Executive Director, at (202) 512-7350.

Authority: Federal Advisory Committee Act, Pub. L. 92-463.

Dated: April 6, 2010.
Charles Jackson,
Federal Register Liaison Officer.

[FR Doc. 2010-8138 Filed 4-8-10; 8:45 am]

BILLING CODE 1610-02-P